DEPARTMENT OF TRANSPORTATION

Federal Aviation Administration

14 CFR Part 71

[Docket No. FAA-2019-0503; Airspace Docket No. 19-AGL-19]

RIN 2120-AA66

Amendment of Class D and E Airspace and Establishment of Class E Airspace; La Crosse, WI

AGENCY: Federal Aviation Administration (FAA), DOT.

ACTION: Final rule.

SUMMARY: This action amends the Class D airspace, the Class E surface airspace, and the Class E airspace extending upward from 700 feet above the surface, and establishes a Class E airspace area designated as an extension to Class D and Class E surface areas at La Crosse Regional Airport, La Crosse, WI. This action is due to an airspace review caused by the decommissioning of the La Crosse VHF omnidirectional range (VOR) navigation aid, which provided navigation information for the instrument procedures at this airport, as part of the VOR Minimum Operational Network (MON) Program. The geographic coordinates of the La Crosse Regional Airport and the name of La Crosse Regional Airport and Mayo Clinic Health System-Franciscan Healthcare, La Crosse, WI, are also being updated to coincide with the FAA's aeronautical database. Airspace redesign is necessary for the safety and management of instrument flight rules (IFR) operations at this airport.

DATES: Effective 0901 UTC, March 26, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, the Class E surface airspace, and the Class E airspace extending upward from 700 feet above the surface, and establishes a Class E airspace area designated as an extension to Class D and Class E surface areas at La Crosse Regional Airport, La Crosse, WI, to support IFR operations at this airport.

History

The FAA published a notice of proposed rulemaking in the Federal Register (84 FR 35049; July 22, 2019) for Docket No. FAA-2019-0503 to amend the Class D airspace, the Class E surface airspace, and the Class E airspace extending upward from 700 feet above the surface, and establish a Class E airspace area designated as an extension to Class D and Class E surface areas at La Crosse Regional Airport, La Crosse, WI. Interested parties were invited to participate in this rulemaking effort by submitting written comments on the proposal to the FAA. No comments were received.

Class D and E airspace designations are published in paragraph 5000, 6002, 6004, and 6005, respectively, of FAA Order 7400.11D, dated August 8, 2019, and effective September 15, 2019, which is incorporated by reference in 14 CFR 71.1. The Class D and E airspace designations listed in this document will be published subsequently in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class D airspace at La Crosse Regional Airport, La Crosse, WI, by updating the name (previously La Crosse Municipal Airport) and geographic coordinates of the airport to coincide with the FAA's aeronautical database; and replaces the outdated term “Airport/Facility Directory” with “Chart Supplement”;

Amends the Class E surface airspace at La Crosse Regional Airport by updating the name (previously La Crosse Municipal Airport) and geographic coordinates of the airport to coincide with the FAA's aeronautical database; adding an altitude limit of 3,200 feet MSL; and replaces the outdated term “Airport/Facility Directory” with “Chart Supplement”;

Establishes a Class E airspace area designated as an extension to Class D and Class E surface areas at La Crosse Regional Airport within 1 mile each side of the 359° bearing from the La Crosse Regional Airport extending from the 4.4-mile radius of the airport to 5.3 miles north of the airport; within 1 mile each side of the 359° bearing from the La Crosse Regional: RWY 18-LOC extending from the 4.4-mile radius of the La Crosse Regional Airport to 5.3 miles north of the La Crosse Regional: RWY 18-LOC; within 1 mile each side of the 036° bearing from the La Crosse Regional Airport extending from the 4.4-mile radius of the airport to 6.2 miles northeast of the airport; within 1 mile each side of the 119° bearing from the La Crosse Regional Airport extending from the 4.4-mile radius of the airport to 5.7 miles east of the airport; and within 1 mile each side of the 216° bearing from the La Crosse Regional Airport extending from the 4.4-mile radius of the airport to 5.6 miles southwest of the airport;

And amends the Class E airspace extending upward from 700 feet above the surface at La Crosse Regional Airport by updating the name (previously La Crosse Municipal Airport) and geographic coordinates of La Crosse Regional Airport to coincide with the FAA's aeronautical database; removes the La Crosse VOR/DME and the associated extension from the airspace legal description; updates the name of Mayo Clinic Health System-Franciscan Healthcare (previously Saint Francis Medical Center) to coincide with the FAA's aeronautical database; adds an extension 1 mile each side of the 359° bearing from the La Crosse Regional Airport extending from the 6.9-mile radius of the airport to 7.1 miles north of the airport; adds an extension within 2.9 miles each side of the 036° bearing from the La Crosse Regional Airport extending from the 6.9-mile radius of the airport to 9.6 miles northeast of the airport; adds an extension 1 mile each side of the 119° bearing from the La Crosse Regional Airport extending from the 6.9-mile radius of the airport to 7.4 miles southeast of the airport; and adds an extension 2 miles each side of the 216° bearing from the La Crosse Regional Airport extending from the 6.9-mile radius of the airport to 11.3 miles southwest of the airport.

This action is necessary due to an airspace review caused by the decommissioning of the La Crosse VOR, which provided navigation information for the instrument procedures at this airport, as part of the VOR MON Program.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

AGL WI D La Crosse, WI [Amended]

La Crosse Regional Airport, WI

(Lat. 43°52′45″ N, long. 91°15′24″ W)

That airspace extending upward from the surface to and including 3,200 feet MSL within a 4.4-mile radius of La Crosse Regional Airport. This Class D airspace area is effective during the specific dates and times established in advance by a Notice to Airmen. The effective dates and times will thereafter be continuously published in the Chart Supplement.

Paragraph 6002 Class E Airspace Areas Designated as a Surface Area.

* * * * *

AGL WI E2 La Crosse, WI [Amended]

La Crosse Regional Airport, WI

(Lat. 43°52′45″ N, long. 91°15′24″ W)

That airspace extending upward from the surface to and including 3,200 feet MSL within a 4.4-mile radius of La Crosse Regional Airport. This Class E airspace area is effective during the specific dates and times established in advance by a Notice to Airmen. The effective dates and times will thereafter be continuously published in the Chart Supplement.

Paragraph 6004 Class E Airspace Areas Designated as an Extension to a Class D or Class E Surface Area.

* * * * *

AGL WI E4 La Crosse, WI [Establish]

La Crosse Regional Airport, WI

(Lat. 43°52′45″ N, long. 91°15′24″ W)

La Crosse Regional: RWY 18-LOC

(Lat. 43°52′01″ N, long. 91°15′31″ W)

That airspace extending upward from the surface within 1 mile each side of the 359° bearing from the La Crosse Regional Airport extending from the 4.4-mile radius of the airport to 5.3 miles north of the airport, and within 1 mile each side of the 359° bearing from the La Crosse Regional: RWY 18-LOC extending from the 4.4-mile radius of the La Crosse Regional Airport to 5.3 miles north of the La Crosse Regional: RWY 18-LOC, and within 1 mile each side of the 036° bearing from the La Crosse Regional Airport extending from the 4.4-mile radius of the airport to 6.2 miles northeast of the airport, and within 1 mile each side of the 119° bearing from the La Crosse Regional Airport extending from the 4.4-mile radius of the airport to 5.7 miles east of the airport, and within 1 mile each side of the 216° bearing from the La Crosse Regional Airport extending from the 4.4-mile radius of the airport to 5.6 miles southwest of the airport.

Paragraph 6005 Class E Airspace Areas Extending Upward From 700 Feet or More Above the Surface of the Earth.

* * * * *

AGL WI E5 La Crosse, WI [Amended]

La Crosse Regional Airport, WI

(Lat. 43°52′45″ N, long. 91°15′24″ W)

Mayo Clinic Health System-Franciscan Healthcare, WI, Point In Space Coordinates

(Lat. 43°47′39″ N, long. 91°14′00″ W)

That airspace extending upward from 700 feet above the surface within a 6.9-mile radius of La Crosse Regional Airport, and within 1 mile each side of the 359° bearing from the La Crosse Regional Airport extending from the 6.9-mile radius to 7.1 miles north of the airport, and within 2.9 miles each side of the 036° bearing from the La Crosse Regional Airport extending from the 6.9-mile radius to 9.6 mile northeast of the airport, and within 1 mile each side of the 119° bearing from the La Crosse Regional Airport extending from the 6.9-mile radius from the airport to 7.4 mile southeast of the airport, and within 2 miles each side of the 216° bearing from the La Crosse Regional Airport extending from the 6.9-mile radius to 11.3 miles southwest of the airport, and within a 6-mile radius of the point in space serving Mayo Clinic Health System-Franciscan Healthcare.

Issued in Fort Worth, Texas, on December 4, 2019.
Steve Szukala,
Acting Manager, Operations Support Group, ATO Central Service Center.

[FR Doc. 2019-26609 Filed 12-11-19; 8:45 am]

BILLING CODE 4910-13-P